DEPARTMENT OF LABOR

Office of the Secretary

Submission for OMB Review; Comment Request

September 11, 2000.

The Department of Labor (DOL) has submitted the following public information collection request (ICR) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 693-4127 or by E-mail to Kurz-Karin@dol.gov). To obtain documentation for ESA, MSHA, OSHA, and VETS contact Darrin King ({202} 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Employment and Training Administration.

Title: Program Monitoring Report and Job Service Complaint Form.

OMB Number: 1205-0039.

Affected Public: State, Local, or Tribal Government.

Form | Total respondents | Frequency | Average time per response (in minutes) | Estimated total burden
Complaint Log Recordkeeping) | 168 | 15 Times | 25 | 1,059
ETA 8429 | 2,520 | One Time | 8 | 327
Outreach Log (Recordkeeping) | 150 | 130 Times | 12 | 3,900
ETA 5148 | 52 | Quarterly | 70 | 244
Totals |  |  |  | 5,530

Total annualized capital/startup costs: $0.

Total annual costs (operating/maintaining systems or purchasing services): $0.

Description: The Job Service forms are necessary as part of Federal Regulations at 20 CFR Parts 651, 653 and 658 published as a result of NACP vs. Brock. The forms allow the U.S. Employment Service to track regulatory compliance of services provided to Migrant and Seasonal Farm Workers (MSFWs) by the State Employment Service Agencies.

Ira L. Mills,
Departmental Clearance Officer.

[FR Doc. 00-23925 Filed 9-15-00; 8:45 am]

BILLING CODE 4510-30-M